DEPARTMENT OF JUSTICE

Antitrust Division

Notice Pursuant to the National Cooperative Research and Production Act of 1993—VSI Alliance

Notice is hereby given that, on April 18, 2000, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specific circumstances. Specifically, Adaptive Silicon, Inc., Los Gatos, CA; Analog Devices, Inc., Greensboro, NC; C Level Design, San Jose, CA; Chronology Corp., Redmond, WA; Circuti Semantics, Inc., San Jose, CA; Experience First, Inc., San Jose, CA; Dominique Houzet (individual member), Toulouse, France; Improv Systems, Inc., Santa Clara, CA; Jennic Ltd., Sheffield, United Kingdom; KITAL-Korean Institute of Technology and the Law, Seoul, Republic of Korea; MAGIMA, Inc., Monterey Park, CA; J. Sukarno Mertoguno (individual member), San Jose, CA; Pittsburgh Digital Greenhouse, Inc., Pittsburgh, PA; Wolfram Putzke-Roming (individual member), Oldenburg, Germany; Silicon Automation Systems Limited, Bangalore, India; Simulation Magic, Inc., Campbell, CA; SIP Consortium in Taiwan, Taiwan; Universite Pierre et Marie Curie, Paris, France; and Mason Weems (individual member), Austin, TX have been added as parties to this venture. Also, ASIC Alliance Corp., Woburn, MA; ASPEC, Sunnyvale, CA; Boulder Creek Corp., Santa Cruz, CA; Cirrus Logic, Inc., Fremont, CA; Gigalex Co., Ltd., Osaka, Japan; ICL High Performance Systems, Manchester, United Kingdom; Innovative Semi, Mountain View, CA; Integrated Technoloyg Express, USA, Santa Clara, CA; iReady Corporation, Santa Clara, CA; Isotron Corp. (formerly Desideratum Company), Seattle, WA; Kawasaki Steel Corp., Chiba, Japan; LEDA S.A., Meylan, France; LEDA Systems, Inc., Plano, TX; Neo Linear, Inc., Pittsburgh, PA; NKK Corp., Kanagawa, Japan; Real 3D, Orlando, FL; ROHM Co., Ltd., Kyoto, Japan; Silicon Systems Limited, Dublin, Ireland; Smartech Oy, Tampere, Finland; SynTest Technologies, Inc., Sunnyvale, CA; TAEUS, Colorado Springs, CO; and Tundra Semiconductor Corp., Kanata, Ontario, Canada have been dropped as parties to this venture.

No other changes have been made in either the membership or planned activity of the group research project. Membership in this group research project remains open, and VSI Alliance intends to file additional written notification disclosing all changes in membership.

On November 29, 1996, VSI Alliance filed its original notification pursuant to section 6(a) of the Act. The Department of Justice published a notice in the Federal Register pursuant to section 6(b) of the Act on March 4, 1997 (62 FR 9812).

The last notification was filed with the Department on January 27, 2000. A notice has not yet been published in the Federal Register.

Constance K. Robinson,
Director of Operations, Antitrust Division.

[FR Doc. 00-16608 Filed 6-29-00; 8:45 am]

BILLING CODE 4410-11-M